FEDERAL ELECTION COMMISSION

11 CFR Parts 8 and 111

[Notice 2010-10]

Collection of Administrative Debts; Collection of Debts Arising From Enforcement and Administration of Campaign Finance Laws

AGENCY: Federal Election Commission.

ACTION: Final rule.

SUMMARY: The Federal Election Commission (“Commission”) is promulgating rules implementing statutory provisions regarding the collection of debts owed to the United States Government. The Commission is also integrating its rules regarding the collection of debts arising solely from the Administrative Fines program into the new rules.

DATES: This rule is effective on May 17, 2010.

FOR FURTHER INFORMATION CONTACT: Ms. Amy L. Rothstein, Assistant General Counsel, or Ms. Esther D. Heiden, Attorney, 999 E Street, NW., Washington, DC 20463, (202) 694-1650 or (800) 424-9530.

SUPPLEMENTARY INFORMATION: The Commission is promulgating new rules to implement the Debt Collection Improvement Act of 1996 (“DCIA”), Public Law 104-134, 110 Stat. 1321-358. The DCIA governs the Federal government's debt collection activities, and mandates that all nontax debts or claims owed to the United States that have been delinquent for a period of 180 days shall be referred to the U.S. Department of the Treasury or a Treasury-designated collection center for appropriate action to collect or terminate collection of the claim or debt. 31 U.S.C. 3711(g)(1). The purposes of the DCIA are: (1) To maximize collections of delinquent debts owed to the Government by ensuring quick action to enforce recovery of debts and the use of all appropriate collection tools; (2) to minimize the costs of debt collection by consolidating related functions and activities and using interagency teams; (3) to reduce losses arising from debt management activity by requiring proper screening of potential borrowers, aggressive monitoring of all accounts, and sharing of information within and among Federal agencies; (4) to ensure that the public is fully informed of the Federal government's debt collection policies and that debtors are aware of their obligations to repay amounts owed to the Federal government; (5) to ensure that debtors have all appropriate due process rights, including the ability to verify, challenge, and compromise claims, and access to administrative appeals procedures that are both reasonable and protect the interests of the United States; (6) to encourage agencies, when appropriate, to sell delinquent debt, particularly debts with underlying collateral; and (7) to rely on the experience and expertise of private sector professionals to provide debt collection services to Federal agencies. Public Law 104-134, sec. 31001(b), 110 Stat. 1321-358, 1321-358.

The Federal Claims Collection Standards (“FCCS”), 31 CFR parts 900-904, were promulgated by the U.S. Department of the Treasury and the U.S. Department of Justice. The FCCS prescribes the standards that Federal agencies must use in the administrative collection, offset, compromise, and suspension or termination of collection activity for civil claims of money, funds, or property as defined by 31 U.S.C. 3701(b). The FCCS applies unless more specific Federal statutes or agency regulations apply, and in certain cases involving bankruptcy. The FCCS clarifies and simplifies Federal debt collection procedures, and prescribes the steps that an agency must take before initiating debt collection to ensure that individuals' rights are protected. These steps include notifying the debtor of the debt and the consequences of failing to resolve the debt. See 31 CFR 901.2. The FCCS provides agencies with limited discretion to adopt agency-specific regulations, tailored to the legal and policy requirements applicable to various types of Federal debt.

The new regulations incorporate the provisions of the DCIA and the FCCS, in some instances directly, and in other instances by cross-reference.

The Commission published a Notice of Proposed Rulemaking in the Federal Register on February 24, 2010. See Notice of Proposed Rulemaking on Collection of Administrative Debts; Collection of Debts Arising From Enforcement and Administration of Campaign Finance Laws, 75 FR 8274 (February 24, 2010) (the “NPRM”). The comment period closed on March 26, 2010. The Commission received one comment in response to the proposed rules.¹

¹ This comment was from the Internal Revenue Service, stating that the Internal Revenue Service did not find any conflict between the Internal Revenue Code and Treasury regulations and the Commission's proposed rules.

Under the Administrative Procedure Act, 5 U.S.C. 553(d), and the Congressional Review of Agency Rulemaking Act, 5 U.S.C. 801(a)(1), agencies must submit final rules to the Speaker of the House of Representatives and the President of the Senate, and publish them in the Federal Register at least thirty calendar days before they take effect. The final rules that follow were transmitted to Congress on April 12, 2010.

Explanation and Justification

I. 11 CFR Part 8—Collection of Administrative Debts

The Commission is adding new part 8 and new subpart C to part 111 of its regulations to provide for debt collection. The two provisions taken together are designed to cover all types of debt that the Commission must collect. The approach of separating the two general categories of debt in the regulations at 11 CFR part 8 and 11 CFR part 111 subpart C is for the convenience of the reader. Placing provisions concerning the collection of debts arising from the Commission's enforcement of the campaign finance laws in 11 CFR part 111 is consistent with the current placement of the regulations for collecting Administrative Fines debts with the enforcement provisions of part 111; placing the other debt collection provisions in 11 CFR part 8 also enables general administrative provisions to be located together.

A. 11 CFR 8.1—Purpose and Scope

Section 8.1 of 11 CFR provides that the purpose of the regulations is to apply the collection standards set out in the DCIA and the FCCS.

B. 11 CFR 8.2—Debts That Are Covered

Section 8.2 of 11 CFR states that the new Commission regulations in part 8 cover only those debts that are either owed by current and former Commission employees, or arise from the provision of goods or services by contractors or vendors doing business with the Commission. The regulations in part 8 do not cover debts arising from compliance matters, administrative fines, alternative dispute resolution, repayments of public funds, and court judgments arising from the Commission's enforcement of the campaign finance laws, which are covered in new 11 CFR part 111 subpart C. Section 8.2 mirrors 11 CFR 111.51. The Commission's regulations also do not cover other types of debt that are specifically excluded from the FCCS, such as debts involving criminal actions of fraud, the presentation of a false claim, or misrepresentation on the part of the debtor or any other person having an interest in the claim, and debts under the Internal Revenue Code of 1986.

C. 11 CFR 8.3—Administrative Collection of Claims

Section 8.3 of 11 CFR states that the Commission will collect the claims or debts covered by 11 CFR part 8 in accordance with the FCCS, and adopts by cross-reference the relevant provisions of the DCIA, and U.S. Department of the Treasury and Department of Justice debt collection regulations. See 31 U.S.C. 3701 et seq.; 31 CFR 285.2, 285.4, 285.7, 285.11, and parts 900-904. Proposed section 8.3 stated that the Commission will refer debts to the U.S. Department of the Treasury for collection no later than 180 days after the debts become delinquent. The final rule states that the Commission will refer all debts that are more than 180 days delinquent to the U.S. Department of the Treasury, and may, at its discretion, transfer delinquent debts prior to the end of the 180 day period. This clarifies that the Commission need not complete the referral process to Treasury within the 180 day period. Instead, the Commission is required to transfer debts that are more than 180 days delinquent, and has the discretion to transfer debts before they are 180 days delinquent. The rule includes examples of collection actions that the U.S. Department of the Treasury might take: referral to another debt collection center, referral to a private collection contractor, or referral to the Department of Justice for litigation. These examples are taken from the U.S. Department of the Treasury regulation governing the transfer of debts to the U.S. Department of the Treasury, and are not a comprehensive list of the actions that the U.S. Department of the Treasury may take in collecting such debt. See 31 CFR 285.12(c)(2). During the 180 days before the mandatory transfer of a debt to the U.S. Department of the Treasury, the Commission may take any action under these rules to attempt to collect the debt.

D. 11 CFR 8.4—Bankruptcy Claims

Section 8.4 of 11 CFR recognizes that in cases where a debtor has sought protection under the Bankruptcy Code, the Code, particularly 11 U.S.C. 553, may require the Commission to take different action from that prescribed under the debt collection regulations set forth in part 8 and the FCCS. In these situations, bankruptcy law will govern the debt collection process.

E. 11 CFR 8.5—Interest, Penalties, and Administrative Costs

Section 8.5 of 11 CFR states that the Commission shall assess interest, penalties, and administrative costs on debts owed to the United States, in accordance with Federal law. The Commission shall waive collection of interest and administrative costs on debts or portions of debts that are paid within thirty days after the date on which interest begins to accrue.

The regulation also provides that the Commission may, at its discretion, waive collection of interest, penalties, or administrative costs on any debt, even debts that are not paid within thirty days after the date on which interest begins to accrue. The regulation states that the Commission may waive collection of interest, penalties, or administrative costs if it determines that: (1) Collection is against equity and good conscience or is not in the best interest of the United States, including when an administrative offset or installment agreement is in effect; or, (2) waiver is appropriate under the criteria for compromise of debts set forth at 31 CFR 902.2(a).

II. Removal of 11 CFR 111.45

The Commission has removed the provision previously located at 11 CFR 111.45. This provision governed debt collection with respect to the Administrative Fines program. Under the new regulations, these debts are covered by 11 CFR part 111 subpart C—Collection of Debts Arising from Enforcement and Administration of Campaign Finance Laws.

III. 11 CFR Part 111 Subpart C—Collection of Debts Arising From Enforcement and Administration of Campaign Finance Laws

The regulations in 11 CFR part 111 subpart C govern the Commission's collection of debts arising from compliance matters, administrative fines, alternative dispute resolution, repayments of public funds, and court judgments arising from the Commission's enforcement of the campaign finance laws. The regulations cover the collection of debts only, and will be invoked only after the completion of existing Commission processes during which respondents or other parties have had a full and fair opportunity to demonstrate that no civil penalty or repayment should be imposed. See 11 CFR parts 111 and 9038, and 9008.11-9008.15.

A. 11 CFR 111.50—Purpose and Scope

Section 111.50 of 11 CFR provides that the purpose of the regulations is to apply the collection standards set out in the DCIA and the FCCS. This provision treats debts under 11 CFR part 111 in a similar manner to those owed by employees and vendors under 11 CFR 8.1, discussed above.

B. 11 CFR 111.51—Debts That Are Covered

Section 111.51 of 11 CFR states that the new Commission regulations in 11 CFR part 111 subpart C cover only those debts arising from compliance matters, administrative fines, alternative dispute resolution, repayments of public funds, and court judgments arising from the Commission's enforcement and administration of the campaign finance laws. The regulations in 11 CFR part 111 subpart C do not cover debts either owed by current and former Commission employees, or arising from the provision of goods or services by contractors or vendors doing business with the Commission, which are covered by new 11 CFR part 8. This new provision treats debts under 11 CFR part 111 in a similar manner to those owed by employees and vendors under new 11 CFR 8.2, and the two provisions taken together are designed to cover all types of debt that the Commission must collect. The Commission's regulations also do not cover other types of debt that are specifically excluded from the FCCS, such as debts involving criminal actions of fraud, the presentation of a false claim, or misrepresentation on the part of the debtor or any other person having an interest in the claim, and debts under the Internal Revenue Code of 1986.

C. 11 CFR 111.52—Administrative Collection of Claims

Section 111.52 of 11 CFR states that the Commission will collect all claims or debts in accordance with the FCCS, and adopts by cross-reference the relevant DCIA, U.S. Department of the Treasury, and U.S. Department of Justice debt collection provisions. See 31 U.S.C. 3701 et seq.; 31 CFR 285.2, 285.4, 285.7, 285.11, and parts 900-904. This provision treats the debts covered by new 11 CFR part 111 subpart C in a similar manner to those owed by employees and vendors under new 11 CFR 8.3, discussed above. The proposed provision stated that the Commission will refer debts to the U.S. Department of the Treasury for collection no later than 180 days after the debt becomes delinquent. The final rule states that the Commission will refer all debts that are more than 180 days delinquent to the U.S. Department of the Treasury, and may, at its discretion, transfer delinquent debts prior to the end of the 180 day period. This clarifies that the Commission need not complete the referral process to Treasury within the 180 day period. Instead, the Commission is required to transfer debts that are more than 180 days delinquent, and has the discretion to transfer debts before they are 180 days delinquent. The rule includes examples of collection actions that the U.S. Department of the Treasury might take: referral to another debt collection center, or referral to a private collection contractor. These examples are taken from the U.S. Department of the Treasury regulation governing the transfer of debts to the U.S. Department of the Treasury, and are not a comprehensive list of the actions that the U.S. Department of the Treasury may take in collecting such debt. See 31 CFR 285.12(c)(2). During the 180 days before the mandatory transfer of a debt to the U.S. Department of the Treasury, the Commission may take any action under these rules, or may go to court under the Commission's litigating authority in 31 U.S.C. 437g to attempt to collect the debt.

D. 11 CFR 111.53—Litigation by the Commission

Section 111.53 of 11 CFR states that nothing in the debt collection procedures precludes the Commission from filing suit under 2 U.S.C. 437g to enforce compliance with a conciliation agreement, seek a civil money penalty, petition the court for a contempt order, or otherwise exercise its authority to enforce or administer the campaign finance laws and regulations.

E. 11 CFR 111.54—Bankruptcy Claims

Section 111.54 of 11 CFR recognizes that in cases where a debtor has sought protection under the Bankruptcy Code, the Code, particularly 11 U.S.C. 362, may require the Commission to take different action from that prescribed under the debt collection regulations set forth in part 111 and the FCCS. In this event, bankruptcy law will govern the debt collection process. See 31 CFR 901.3(a)(5).

F. 11 CFR 111.55—Interest, Penalties, and Administrative Costs

Section 111.55 of 11 CFR states that the Commission shall assess interest, penalties, and administrative costs on debts owed to the United States, as required by Federal law. See 31 U.S.C. 3717. The Commission shall waive collection of interest and administrative costs on debts or portions of debts that are paid within thirty days after the date on which interest begins to accrue.

The regulation also provides that the Commission may, at its discretion, waive collection of interest, penalties, or administrative costs on any debt, even debts that are not paid within thirty days after the date on which interest begins to accrue. The regulation states that the Commission may waive collection of interest, penalties, or administrative costs if it determines that: (1) Collection is against equity and good conscience or is not in the best interest of the United States, including when an administrative offset or installment agreement is in effect; or, (2) waiver is appropriate under the criteria for compromise of debts set forth at 31 CFR 902.2(a). This provision treats the debts covered by new 11 CFR part 111 subpart C in a similar manner to those owed by employees and vendors under new 11 CFR 8.5, discussed above.

Certification of No Effect Pursuant to 5 U.S.C. 605(b) (Regulatory Flexibility Act)

The attached final rules do not have a significant economic impact on a substantial number of small entities. There are two bases for this certification. First, the attached final rules implement statutorily required processes for collecting unpaid debts, and any economic impact of these rules is caused by the statutory mandate, rather than agency decisions contained in these rules. Second, the provisions in the new rules relate to agency management and procedure and do not impose new substantive or compliance requirements directly on members of the public. If the provision regarding the imposition of interest, penalties, and administrative costs could be viewed as imposing a new requirement on the public, the regulation merely implements the statutory requirement that the Commission assess these additional costs and provides that the Commission can exercise its discretion to waive the assessment of such costs in appropriate circumstances. Thus, any incremental economic impact of this rule on small entities is not significant. Therefore, the Commission certifies that the attached final rules will not have a significant economic impact on a substantial number of small entities.

List of Subjects

11 CFR Part 8

Administrative practice and procedure, Debt collection procedures, Government contracts, Law enforcement, Penalties.

11 CFR Part 111

Administrative practice and procedure, Debt collection procedures, Elections, Law enforcement, Penalties.

For the reasons set out in the preamble, the Federal Election Commission is amending Chapter 1 of Title 11 of the Code of Federal Regulations as follows:

1. Part 8 is added to read as follows:

PART 8—Collection of Administrative Debts

Sec.
8.1 Purpose and scope.
8.2 Debts that are covered.
8.3 Administrative collection of claims.
8.4 Bankruptcy claims.
8.5 Interest, penalties, and administrative costs.

Authority: 31 U.S.C. 3701, 3711, and 3716-3720A, as amended; 2 U.S.C 431 et seq., as amended; 31 CFR parts 285, and 900-904.

§ 8.1 Purpose and scope.

This part prescribes standards and procedures under which the Commission will collect and dispose of certain debts owed to the United States, as described in 11 CFR 8.2. The regulations in this part implement the Debt Collection Improvement Act of 1996, 31 U.S.C. 3701, 3711, and 3716-3720A, as amended; and the Federal Claims Collection Standards, 31 CFR parts 900-904. The activities covered include: the collection of claims of any amount; compromising claims; suspending or terminating the collection of claims; referring debts to the U.S. Department of the Treasury for collection action; and referring debts under this part 8 of more than $100,000 (exclusive of any interest and charges) to the Department of Justice for litigation.

§ 8.2 Debts that are covered.

(a) The procedures covered by this part apply to debts that are either owed by current and former Commission employees, or arise from the provision of goods or services by contractors or vendors doing business with the Commission.

(b) The procedures covered by this part do not apply to any of the following debts:

(1) Debts that are covered by 11 CFR 111.51, regarding debts arising from compliance matters, administrative fines, alternative dispute resolution, repayments, and court judgments arising under the statutes specified in 11 CFR 111.51(a).

(2) Debts involving criminal actions of fraud, the presentation of a false claim, or misrepresentation on the part of the debtor or any other person having an interest in the claim.

(3) Debts based in whole or in part on conduct in violation of the antitrust laws.

(4) Debts under the Internal Revenue Code of 1986.

(5) Debts between the Commission and another Federal agency. The Commission will attempt to resolve interagency claims by negotiation in accordance with Executive Order 12146, 3 CFR pp. 409-12 (1980 Comp.).

(6) Debts that have become subject to salary offset under 5 U.S.C. 5514.

§ 8.3 Administrative collection of claims.

(a) The Commission shall act to collect all claims or debts. These collection activities will be undertaken promptly and follow up action will be taken as appropriate in accordance with 31 CFR 901.1.

(b) The Commission may take any and all appropriate collection actions authorized and required by the Debt Collection Act of 1982, as amended by the Debt Collection Improvement Act of 1996, 31 U.S.C. 3701 et seq. The U.S. Department of the Treasury regulations at 31 CFR 285.2, 285.4, 285.7 and 285.11, and the Federal Claims Collection Standards issued jointly by the Department of Justice and the U.S. Department of the Treasury at 31 CFR parts 900-904 also apply. The Commission has adopted these regulations by cross-reference.

(c) The Commission will refer to the Dept. of Treasury all debt that has been delinquent for more than 180 days, and may refer to the Dept. of Treasury any debt that has been delinquent for 180 days or less. On behalf of the Commission, the U.S. Department of the Treasury will attempt to collect the debt, in accordance with the statutory and regulatory requirements and authorities applicable to the debt and action. This may include referral to another debt collection center, a private collection contractor, or the Department of Justice for litigation. See 31 CFR 285.12 (Transfer of debts to Treasury for collection). This requirement does not apply to any debt that:

(1) Is in litigation or foreclosure;

(2) Will be disposed of under an approved asset sale program;

(3) Has been referred to a private collection contractor for a period of time acceptable to the U.S. Department of the Treasury; or

(4) Will be collected under internal offset procedures within three years after the debt first became delinquent.

(d) The U.S. Department of the Treasury is authorized to charge a fee for services rendered regarding referred or transferred debts. The Commission will add the fee to the debt as an administrative cost, in accordance with 11 CFR 8.5.

§ 8.4 Bankruptcy claims.

When the Commission learns that a bankruptcy petition has been filed by a debtor, before proceeding with further collection action, the Commission will take any necessary action in accordance with the provision of 31 CFR 901.2(h).

§ 8.5 Interest, penalties, and administrative costs.

(a) The Commission shall assess interest, penalties, and administrative costs on debts owed to the United States Government in accordance with 31 U.S.C. 3717 and 31 CFR 901.9.

(b) The Commission shall waive collection of interest and administrative costs on a debt or any portion of the debt that is paid in full within thirty days after the date on which the interest begins to accrue.

(c) The Commission may waive collection of interest, penalties, and administrative costs if it:

(1) Determines that collection is against equity and good conscience or not in the best interest of the United States, including when an administrative offset or installment agreement is in effect; or

(2) Determines that waiver is appropriate under the criteria for compromise of debts set forth at 31 CFR 902.2(a).

(d) The Commission is authorized to impose interest and related charges on debts not subject to 31 U.S.C. 3717, in accordance with common law.

PART 111—COMPLIANCE PROCEDURES

2. The authority citation for part 111 is revised to read as follows:

Authority: 2 U.S.C. 432(i), 437g, 437d(a), 438(a)(8); 28 U.S.C. 2461 nt; 31 U.S.C. 3701, 3711, 3716-3719, and 3720A, as amended; 31 CFR parts 285 and 900-904.

Subpart B—Administrative Fines

§ 111.45 [Removed and Reserved]

3. Remove and reserve § 111.45.

4. Subpart C is added to read as follows:

Subpart C—Collection of Debts Arising From Enforcement and Administration of Campaign Finance Laws

Sec.
111.50 Purpose and scope.
111.51 Debts that are covered.
111.52 Administrative collection of claims.
111.53 Litigation by the Commission.
111.54 Bankruptcy claims.
111.55 Interest, penalties, and administrative costs.

§ 111.50 Purpose and scope.

Subpart C prescribes standards and procedures under which the Commission will collect and dispose of certain debts owed to the United States, as described in 11 CFR 111.51. The regulations in this subpart implement the Debt Collection Improvement Act of 1996, 31 U.S.C. 3701, 3711, and 3716-3720A, as amended; and the Federal Claims Collection Standards, 31 CFR parts 900-904. The activities covered include: The collection of claims of any amount; compromising claims; suspending or terminating the collection of claims; and referring debts to the U.S. Department of the Treasury for collection action.

§ 111.51 Debts that are covered.

(a) The procedures of this subpart C of part 111 apply to claims for payment or debt arising from, or ancillary to, any action undertaken by or on behalf of the Commission in furtherance of efforts to ensure compliance with the Federal Election Campaign Act, 2 U.S.C. 431 et seq., as amended, and to administer the Presidential Election Campaign Fund Act, 26 U.S.C. 9001 et seq., or the Presidential Primary Matching Payment Account Act, 26 U.S.C. 9031 et seq., and Commission regulations, including:

(1) Negotiated civil penalties in enforcement matters and alternative dispute resolution matters;

(2) Civil money penalties assessed under the administrative fines program;

(3) Claims reduced to judgment in the courts and that are no longer in litigation;

(4) Repayments of public funds under the Presidential Election Campaign Fund Act, 26 U.S.C. 9001 et seq.; or

(5) Repayment of public funds under the Presidential Primary Matching Payment Account Act, 26 U.S.C. 9031 et seq.

(c) The procedures covered by this subpart do not apply to any of the following debts:

(1) Debts that result from administrative activities of the Commission that are governed by 11 CFR part 8.

(2) Debts involving criminal actions of fraud, the presentation of a false claim, or misrepresentation on the part of the debtor or any other person having an interest in the claim.

(3) Debts based in whole or in part on conduct in violation of the antitrust laws.

(4) Debts under the Internal Revenue Code of 1986.

(5) Debts between the Commission and another Federal agency. The Commission will attempt to resolve interagency claims by negotiation in accordance with Executive Order 12146, 3 CFR pp. 409-12 (1980 Comp.).

(6) Debts that have become subject to salary offset under 5 U.S.C. 5514.

§ 111.52 Administrative collection of claims.

(a) The Commission shall act to collect all claims or debts. These collection activities will be undertaken promptly and follow up action will be taken as appropriate in accordance with 31 CFR 901.1.

(b) The Commission may take any and all appropriate collection actions authorized and required by the Debt Collection Act of 1982, as amended by the Debt Collection Improvement Act of 1996, 31 U.S.C. 3701 et seq. The U.S. Department of the Treasury regulations at 31 CFR 285.2, 285.4, 285.7, and 285.11, and the Federal Claims Collection Standards issued jointly by the Department of Justice and the U.S. Department of the Treasury at 31 CFR parts 900-904, also apply. The Commission has adopted these regulations by cross-reference.

(c) The Commission will refer to the Dept. of Treasury all debt that has been delinquent for more than 180 days, and may refer to the Dept. of Treasury any debt that has been delinquent for 180 days or less. On behalf of the Commission, the U.S. Department of the Treasury will attempt to collect the debt, in accordance with the statutory and regulatory requirements and authorities applicable to the debt and action. This may include referral to another debt collection center, or a private collection contractor. See 31 CFR 285.12 (Transfer of debts to Treasury for collection). This requirement does not apply to any debt that:

(1) Is in litigation or foreclosure;

(2) Will be disposed of under an approved asset sale program;

(3) Has been referred to a private collection contractor for a period of time acceptable to the U.S. Department of the Treasury; or

(4) Will be collected under internal offset procedures within three years after the debt first became delinquent.

(d) The U.S. Department of the Treasury is authorized to charge a fee for services rendered regarding referred or transferred debts. The Commission will add the fee to the debt as an administrative cost, in accordance with 11 CFR 111.55.

§ 111.53 Litigation by the Commission.

Nothing in this subpart C precludes the Commission from filing suit in the appropriate court to enforce compliance with a conciliation agreement under 2 U.S.C. 437g(a)(5)(D), seek a civil money penalty under 2 U.S.C. 437g(a)(6), petition the court for a contempt order under 2 U.S.C. 437g(a)(11), or otherwise exercise its authority to enforce or administer the statutes specified in 11 CFR 111.51(a).

§ 111.54 Bankruptcy claims.

When the Commission learns that a bankruptcy petition has been filed by a debtor, before proceeding with further collection action, the Commission will take any necessary action in accordance with the provision of 31 CFR 901.2(h).

§ 111.55 Interest, penalties, and administrative costs.

(a) The Commission shall assess interest, penalties, and administrative costs on debts owed to the United States Government, pursuant to 31 U.S.C. 3717. Interest, penalties, and administrative costs will be assessed in accordance with 31 CFR 901.9.

(b) The Commission shall waive collection of interest and administrative costs on a debt or any portion of the debt that is paid within thirty days after the date on which the interest begins to accrue.

(c) The Commission may waive collection of interest, penalties, and administrative costs if it:

(1) Determines that collection is against equity and good conscience or not in the best interest of the United States, including when an administrative offset or installment agreement is in effect; or

(2) Determines that waiver is appropriate under the criteria for compromise of debts set forth at 31 CFR 902.2(a).

(d) The Commission is authorized to impose interest and related charges on debts not subject to 31 U.S.C. 3717, in accordance with common law.

Dated: April 12, 2010.
On behalf of the Commission.
Matthew S. Petersen,
Chairman, Federal Election Commission.

[FR Doc. 2010-8736 Filed 4-15-10; 8:45 am]

BILLING CODE 6715-01-P